DEPARTMENT OF JUSTICE

Notice of Lodging Proposed Consent Decree

In accordance with Departmental Policy, 28 CFR 50.7, notice is hereby given that a proposed Consent Decree in United States v. Lister Harrell, et al., Civil Action No. 3:12-cv-00111-JRH-BKE, was lodged with the United States District Court for the Southern District of Georgia (Dublin Division) on September 14, 2015.

This proposed Consent Decree concerns a complaint filed by the United States against Lister Harrell, Saraland, L.L.L.P, Middle Georgia Road Builders, Inc., and Robert Sutton (“Defendants”) pursuant to 33 U.S.C. § 1311(a), to obtain injunctive relief from and impose civil penalties against the Defendants for violating the Clean Water Act by discharging pollutants without a permit into waters of the United States. The proposed Consent Decree resolves these allegations by requiring the Defendants to restore the impacted areas, perform mitigation, and pay a civil penalty.

The United States Department of Justice will accept written comments relating to this proposed Consent Decree for thirty (30) days from the date of publication of this Notice. Please address comments to Martin McDermott, Senior Attorney, United States Department of Justice, Environment and Natural Resources Division, Post Office Box 7611, Washington, DC 20044 and refer to United States v. Lister Harrell, et al., DJ #90-5-1-1-18422.

The proposed Consent Decree may be examined at the Clerk's Office, United States District Court for the Southern District of Georgia (Augusta Division), United States Courthouse, 600 James Brown Boulevard, Augusta, GA 30901. In addition, the proposed Consent Decree may be examined electronically at http://www.justice.gov/enrd/consent-decrees.

Cherie L. Rogers,
Assistant Section Chief, Environmental Defense Section, Environment and Natural Resources Division.

[FR Doc. 2015-23546 Filed 9-18-15; 8:45 am]

BILLING CODE 4410-15-P